DEPARTMENT OF THE INTERIOR

Fish and Wildlife Service

[FWS-R7-ES-2019-N138; FF07CAMM00-FX-ES111607MRG01]

Endangered Species; Marine Mammals; Seismic Survey Design and Impacts to Maternal Polar Bear Dens

AGENCY: Fish and Wildlife Service, Interior.

ACTION: Notice of availability of a peer-reviewed scientific manuscript and associated model; notice of public webinars; and request for public comments.

SUMMARY: We, the U.S. Fish and Wildlife Service, announce the availability of a peer-reviewed scientific manuscript and associated model regarding seismic survey design and potential impacts to maternal polar bear dens. This manuscript contains information, including a methodology and model that may be used for evaluating the effects of future seismic survey proposals for their potential impacts to maternal polar bear dens. We are also announcing public webinars that will provide an overview of the manuscript and model and respond to questions. We request public comments on the value of the model and the associated methodology described in the peer-viewed scientific manuscript in assisting in the evaluation of the effects of future seismic survey proposals for their potential impacts to maternal polar bear dens.

DATES: Comments will be accepted on or before April 20, 2020.

ADDRESSES: You may obtain a copy of the publication by any of the following methods:

Internet: View or download the document at https://www.fws.gov/alaska/pages/marine-mammals/polar-bear.

U.S. mail: Send a request via mail to Marine Mammals Management, U.S. Fish and Wildlife Service, 1011 East Tudor Road, MS 341, Anchorage, Alaska 99503.

Email: Send a request via email to fw7_ak_marine_mammals@fws.gov.

FOR FURTHER INFORMATION CONTACT: Marine Mammals Management via the U.S. mail or email address above, by telephone at 1-800-362-5148, or via the Federal Relay Service (FRS) at 1-800-877-8339.

SUPPLEMENTARY INFORMATION: We, the U.S. Fish and Wildlife Service (Service), announce the availability of the following peer-reviewed scientific manuscript regarding seismic survey design and impacts to maternal polar bear (Ursus maritimus) dens:

Wilson, R.R. and G.M. Durner. Seismic survey design and impacts to maternal polar bear dens.

This manuscript contains scientific information, including a methodology that may be used for evaluating the effect of future seismic survey proposals for their potential impacts to maternal polar bear dens. Polar bears are currently protected by both the Marine Mammal Protection Act (MMPA; 16 U.S.C. 1361 et seq.), and the Endangered Species Act (ESA; 16 U.S.C. 1531 et seq.). When evaluating applications for incidental take authorization under the MMPA and when conducting section 7 consultations on proposed Federal actions under the ESA, the Service uses the best available scientific data. Typically, the analysis of a proposed action includes consideration of any overlap between the proposed action and marine mammals and threatened and endangered species, available information on the effects of the proposed action on the species and the species' habitat, and measures to avoid, minimize or mitigate impacts. The scientific methodology and model contained in the manuscript, made available here, is one piece of information being evaluated for use in such an analysis.

It is important to note that the specific analytical approach and inputs for any given analysis will be driven by the proposed action or application submitted to the Service. The referenced manuscript includes a model that was developed to analyze the spatial and temporal overlap between a hypothetical terrestrial seismic survey and denning polar bears. The potential use of this model should be of interest to individuals and entities considering or monitoring activities that may affect polar bears.

We will hold two webinars that will provide an overview of the publication and respond to questions, Thursday, March 19, 2020, from 10:00 a.m. to 11:30 a.m. Alaska Standard Time, and Friday, March 20, 2020, from 10:00 a.m. to 11:30 a.m. Alaska Standard Time. Information on electronically accessing the webinars will be posted on the Service's Alaska Region Marine Mammals Management program website at: https://www.fws.gov/alaska/pages/marine-mammals. We request public comments on the value of the methodology and model in the peer-reviewed scientific manuscript to assist in evaluating the effects of seismic survey or other proposals for their potential impacts to maternal polar bear dens.

Dated: February 7, 2020.
Gregory E. Siekaniec,
Regional Director, Alaska Region.

[FR Doc. 2020-03132 Filed 2-14-20; 8:45 am]

BILLING CODE 4333-15-P